ENVIRONMENTAL PROTECTION AGENCY

40 CFR Parts 79, 80, 85, 86, 600, 1036, 1037, 1039, 1042, 1048, 1054, 1065, and 1066

[EPA-HQ-OAR-2011-0135; FRL 9906-86-OAR]

RIN 2060-AQ86

Control of Air Pollution From Motor Vehicles: Tier 3 Motor Vehicle Emission and Fuel Standards

Correction

In rule document 2014-06954, appearing on pages 23414-23886, in the issue of Monday, April 28, 2014, make the following corrections:

§ 86.113-94 Fuel specifications. [Corrected]

On page 23695 make the following correction:

The first table on page 23695 is corrected as set forth below.

Property | Unit | Type 2-D | Reference procedure ¹
(i) Cetane Number |  | 40-50 | ASTM D613
(ii) Cetane Index |  | 40-50 | ASTM D976
(iii) Distillation range:
(A) IBP |  | 340-400 (171.1-204.4)
(B) 10 pct. point |  | 400-460 (204.4-237.8)
(C) 50 pct. point | °F (°C) | 470-540 (243.3-282.2) | STM D86
(D) 90 pct. point |  | 560-630 (293.3-332.2)
(E) EP |  | 610-690 (321.1-365.6)
(iv) Gravity | °API | 32-37 | ASTM D4052
(v) Total sulfur | ppm | 7-15 | ASTM D2622
(vi) Hydrocarbon composition: Aromatics, minimum (Remainder shall be paraffins, naphthenes, and olefins) | pct | 27 | ASTM D5186
(vii) Flashpoint, min | °F (°C) | 130 (54.4) | ASTM D93
(viii) Viscosity | centistokes | 2.0-3.2 | ASTM D445
¹ ASTM procedures are incorporated by reference in § 86.1.

§ 1065.845 Response factor determination. [Corrected]

On page 23813 make the following correction:

The table heading for the table titled “Table 1 of § 1065.845” is corrected to read as set forth below.

Table 1 of § 1065.845—Default Values for THC FID Response Factor Relative to Propane on a C1-Equivalent Basis

§ 1066.845 AC17 air conditioning efficiency test procedure. [Corrected]

On page 23881 make the following correction:

The equation in the first column is corrected to read as set forth below.

[FR Doc. C1-2014-06954 Filed 6-27-14; 8:45 am]

BILLING CODE 1505-01-D